DEPARTMENT OF COMMERCE

International Trade Administration

[A-570-924, A-520-803]

Polyethylene Terephthalate Film, Sheet and Strip From the People's Republic of China and the United Arab Emirates: Continuation of Antidumping Duty Orders

AGENCY: Enforcement and Compliance, International Trade Administration, Department of Commerce.

SUMMARY: As a result of the determinations by the Department of Commerce (Commerce) and the International Trade Commission (ITC) that revocation of the antidumping duty (AD) orders on polyethylene terephthalate film, sheet and strip (PET film) from the People's Republic of China (China) and the United Arab Emirates (UAE) would likely lead to a continuation or recurrence of dumping, as well as material injury to an industry in the United States, Commerce is publishing a notice of continuation of the AD orders.

DATES: Applicable September 8, 2020.

FOR FURTHER INFORMATION CONTACT: Kathryn Turlo at (202) 482-3870 or Jacqueline Arrowsmith at (202) 482-2328; AD/CVD Operations, Enforcement and Compliance, International Trade Administration, U.S. Department of Commerce, 1401 Constitution Avenue NW, Washington, DC 20230.

SUPPLEMENTARY INFORMATION:

Background

On November 10, 2008, Commerce published the AD orders on PET film from China and the UAE.¹ On January 2, 2020, Commerce initiated the second five-year (sunset) reviews of the Orders, pursuant to section 751(c) of the Tariff Act of 1930, as amended (the Act).² As a result of its review, Commerce determined that revocation of the AD Orders on PET film from China and the UAE would likely lead to a continuation or recurrence of dumping and, therefore, notified the ITC of the magnitude of the margins and net countervailable subsidy rates likely to prevail should the AD Orders be revoked.³ On September 1, 2020, the ITC published its determination, pursuant to section 751(c) of the Act, that revocation of the AD Orders would likely lead to a continuation or recurrence of material injury to an industry in the United States within a reasonably foreseeable time.⁴

¹ See Polyethylene Terephthalate Film, Sheet, and Strip from Brazil, the People's Republic of China and the United Arab Emirates: Antidumping Duty Orders and Amended Final Determination of Sales at Less Than Fair Value for the United Arab Emirates, 73 FR 66595 (November 10, 2008) (AD Orders).

² See Initiation of Five-Year (Sunset) Reviews, 85 FR 67 (January 2, 2020).

³ See Polyethylene Terephthalate Film, Sheet and Strip from the People's Republic of China and the United Arab Emirates: Final Results of the Expedited Second Sunset Reviews of the Antidumping Duty Orders, 85 FR 26927 (May 6, 2020).

⁴ See Polyethylene Terephthalate Film, Sheet, and Strip from China and the United Arab Emirates; Determinations, Investigation Nos. 731-TA-1132 and 1134, 85 FR 54401 (September 1, 2020).

Scope of the AD Orders

The products covered by the AD Orders are all gauges of raw, pre-treated, or primed PET film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET film is classifiable under subheading 3920.62.00.90 of the Harmonized Tariff Schedule of the United States (HTSUS). While the HTSUS subheading is provided for convenience and customs purposes, our written description of the scope of the AD Orders is dispositive.

Continuation of the Orders

As a result of the determinations by Commerce and the ITC that revocation of the AD Orders would likely lead to a continuation or recurrence of dumping and material injury to an industry in the United States, pursuant to section 751(d)(2) of the Act and 19 CFR 351.218(a), Commerce hereby orders the continuation of the AD orders on PET film from China and the UAE. U.S. Customs and Border Protection will continue to collect AD cash deposits at the rates in effect at the time of entry for all imports of subject merchandise. The effective date of the continuation of the orders will be the date of publication in the Federal Register of this notice of continuation. Pursuant to section 751(c)(2) of the Act and 19 CFR 351.218(a), Commerce intends to initiate the next five-year review of the AD Orders not later than 30 days prior to the fifth anniversary of the effective date of continuation.

Notification to Interested Parties

This five-year (sunset) review and this notice are in accordance with section 751(c) of the Act and published pursuant to section 777(i)(1) of the Act and 19 CFR 351.218(f)(4).

Dated: September 1, 2020.
Joseph A. Laroski, Jr.,
Deputy Assistant Secretary for Policy and Negotiations.

[FR Doc. 2020-19726 Filed 9-4-20; 8:45 am]

BILLING CODE 3510-DS-P